ENVIRONMENTAL PROTECTION AGENCY

40 CFR Parts 60 and 63

[EPA-HQ-OAR-2002-0058; EPA-HQ-OAR-2006-0790; EPA-HQ-OAR-2003-0119; FRL-9178-2]

RIN 2060-AG69, RIN 2060-AM44, RIN 2060-AO12

National Emission Standards for Hazardous Air Pollutants for Major Sources: Industrial, Commercial, and Institutional Boilers and Process Heaters; National Emission Standards for Hazardous Air Pollutants for Area Sources: Industrial, Commercial, and Institutional Boilers; Standards of Performance for New Stationary Sources and Emission Guidelines for Existing Sources: Commercial and Industrial Solid Waste Incineration Units

AGENCY: Environmental Protection Agency (EPA).

ACTION: Extension of public comment period.

SUMMARY: On April 29, 2010, the EPA Administrator signed proposed emission standards for the following source categories: Industrial, Commercial, and Institutional Boilers and Process Heaters located at major sources; Industrial, Commercial, and Institutional Boilers located at area sources; and Commercial and Industrial Solid Waste Incineration Units. These proposed rule documents were published on June 4, 2010. In this action, EPA is extending the comment period for these three related proposed rules until August 23, 2010. This extension will provide additional time for public participation.

DATES: Comments. This document extends the comment periods for 3 proposed rule documents published on June 4, 2010. Comments on FR Doc 2010-10827 (75 FR 32006); FR Doc 2010-10832 (75 FR 31896); and FR Doc 2010-10821 (75 FR 31938) must be received on or before August 23, 2010.

ADDRESSES: Submit your comments, identified by one of the following Docket ID Nos., EPA-HQ-OAR-2002-0058 (Industrial, Commercial, and Institutional Boilers and Process Heaters located at major sources), EPA-HQ-OAR-2006-0790 (Industrial, Commercial, and Institutional Boilers located at area sources), or EPA-HQ-OAR-2003-0119 (Commercial and Industrial Solid Waste Incineration Units), by one of the following methods:

• http://www.regulations.gov: Follow the on-line instructions for submitting comments.

• E-mail: a-and-r-docket@epa.gov.

• Fax: (202) 566-9744.

• Mail: U.S. Postal Service, send comments to: EPA Docket Center (6102T), 1200 Pennsylvania Ave., NW., Washington, DC 20460. Please include as the second line of the address the name of the proposal that you are commenting on and the Docket ID No. Please include a total of two copies.

• Hand Delivery: In person or by courier, deliver comments to: EPA Docket Center (6102T), EPA West, Room 3334, 1301 Constitution Avenue, NW., Washington, DC 20004. Please include as the second line of the address the name of the proposal that you are commenting on and the Docket ID No. Such deliveries are only accepted during the Docket's normal hours of operation, and special arrangements should be made for deliveries of boxed information. Please include a total of two copies.

Instructions: Direct your comments to one of the following Docket ID Nos.: EPA-HQ-OAR-2002-0058, EPA-HQ-OAR-2006-0790, or EPA-HQ-OAR-2003-0119. EPA's policy is that all comments received will be included in the public docket without change and may be made available Online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center, EPA West, Room 3334, 1301 Constitution Ave., NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: Questions concerning the proposed rules should be addressed to one of the following contacts:

For major source boilers and process heaters: Mr. Brian Shrager, Office of Air Quality Planning and Standards, Sector Policies and Programs Division, Energy Strategies Group (D243-01), Environmental Protection Agency, Research Triangle Park, NC 27711, telephone number: (919) 541-7689; fax number: (919) 541-5450; e-mail address: shrager.brian@epa.gov.

For area source boilers: Ms. Mary Johnson, Office of Air Quality Planning and Standards, Sector Policies and Programs Division, Energy Strategies Group (D243-01), Environmental Protection Agency, Research Triangle Park, NC 27711, telephone number: (919) 541-5025; fax number: (919) 541-5450; e-mail address: johnson.mary@epa.gov.

For commercial and industrial solid waste incineration units: Ms. Charlene Spells, Natural Resources and Commerce Group, Sector Policies and Programs Division (E143-03), Environmental Protection Agency, Research Triangle Park, North Carolina 27711; telephone number: (919) 541-5255; fax number: (919) 541-3470; e-mail address: spells.charlene@epa.gov or Ms. Toni Jones, Natural Resources and Commerce Group, Sector Policies and Programs Division (E143-03), Environmental Protection Agency, Research Triangle Park, North Carolina 27711; telephone number: (919) 541-0316; fax number: (919) 541-3470; e-mail address: jones.toni@epa.gov.

SUPPLEMENTARY INFORMATION: In today's action, EPA is providing additional time to submit public comment on the following proposed rules: Emissions standards for industrial, commercial, and institutional boilers and process heaters located at major sources (the major source boilers rule); emissions standards for industrial, commercial, and institutional boilers located at area sources (the area source boilers rule); and emissions standards for commercial and industrial solid waste incineration units (the CISWI rule). In the notices of proposed rulemaking for these rules, EPA established a deadline of July 19, 2010, for submission of public comments. On June 9, 2010, EPA extended the public comment period to August 3, 2010. 75 FR 32682. Today, EPA is further extending the deadline for providing comments on these proposed rules to August 23, 2010.

EPA also notes that certain additional materials relating to the maximum achievable control technology (MACT) floors have been added to the dockets for the major and area source boilers proposed rules and the CISWI proposed rule since the date of publication of the proposed rules. At the time of publication of the proposed rules, the docket contained Adobe Acrobat© versions of the spreadsheets used in the MACT floor calculations, as well as associated memoranda describing in detail EPA's calculation of the MACT floor for each proposed set of emissions standards. Since the publication date, EPA has added to the docket the same spreadsheets in Excel format.

How can I get copies of the proposed rules and other related information?

The proposed rules were published on June 4, 2010, and can be accessed at the following Web site: http://www.epa.gov/airquality/combustion. EPA has established the public dockets for the proposed rulemakings under docket ID Nos. EPA-HQ-OAR-2002-0058, EPA-HQ-OAR-2006-0790, and EPA-HQ-OAR-2003-0119, and a copy of the proposed rules is available in the dockets. Information on how to access the docket is presented above in the ADDRESSES section.

List of Subjects in 40 CFR Part 63

Administrative practice and procedure, Air pollution control, Hazardous substances, Incorporation by reference, Intergovernmental relations, Reporting and recordkeeping requirements.

Dated: July 16, 2010.
Gina McCarthy,
Assistant Administrator, Office of Air and Radiation.

[FR Doc. 2010-17966 Filed 7-21-10; 8:45 am]

BILLING CODE 6560-50-P